DEPARTMENT OF AGRICULTURE

Forest Service

Proposed Recreation Fee Sites

AGENCY: Forest Service, Agriculture (USDA).

ACTION: Notice.

SUMMARY: The Coconino National Forest is proposing to establish several recreation fee sites and a special recreation permit. Proposed recreation fees collected at the proposed recreation fee sites and for the proposed special recreation permit would be used for operation, maintenance, and improvement of the sites and the special recreation use covered by the proposed special recreation permit. An analysis of nearby recreation fee sites and special recreation uses with similar amenities shows that the proposed recreation fees that would be charged at the proposed recreation fee sites are reasonable and typical of similar recreation fee sites and special recreation uses in the area.

DATES: If approved, the proposed recreation fee sites and proposed recreation fees would be established no earlier than six months following the publication of this notice in the Federal Register.

ADDRESSES: Coconino National Forest, Attention: Recreation Fees, 1824 S. Thompson St., Flagstaff, AZ 86001.

FOR FURTHER INFORMATION CONTACT: Brian Poturalski, Recreation Program Manager, (928) 527-3474, brian.poturalski@usda.gov.

SUPPLEMENTARY INFORMATION: The Federal Lands Recreation Enhancement Act (16 U.S.C. 6803(b)) requires the Forest Service to publish in the Federal Register a six-month advance notice before establishment of proposed recreation fee sites and proposed special recreation permits. In accordance with Forest Service Handbook 2309.13, chapter 30, the Forest Service will publish the proposed recreation fee sites and proposed special recreation permit fees in local newspapers and other local publications for public comment. At least 80% of the proposed recreation fees would be spent where they are collected to enhance the visitor experience at the proposed recreation fee sites and in connection with the special recreation use covered by the proposed special recreation permit.

A proposed expanded amenity recreation fee of $100 per night would be charged for rental of Mormon Lake Guard Station Cabin. A proposed expanded amenity recreation fee of $75 per night would be charged for rental of Buck Mountain Lookout.

A proposed standard amenity recreation fee of $10 per day per vehicle, $30 per week per vehicle, and $60 per year per vehicle would be charged at CC Cragin and Knoll Lake boating sites. The Red Rock Pass and the America the Beautiful—the National Parks and Federal Recreational Lands Pass would be honored at these standard amenity recreation fee sites. A proposed special recreation permit fee of $25 per vehicle per day is proposed at sites within the Fossil Creek Wild and Scenic Corridor, including Homestead Day Use Area, Fossil Creek Bridge Day Use Area, Mazatzal Day Use Area, Tonto Bench Day Use Area, Sally May Day Use Area, Purple Mountain Day Use Area, Irving/Flume Trailhead, and Dixon Lewis Trailhead.

Fee revenue would be used to enhance recreation opportunities, improve customer service, and address maintenance needs.

Once public involvement is complete, the proposed recreation fee sites and special recreation permit fees will be reviewed by a Recreation Resource Advisory Committee prior to a final decision and implementation. Reservations for cabins, lookouts, and permits could be made online at www.recreation.gov or by calling 877-444-6777. Reservations would cost $8.00 per reservation for cabins and lookouts or $6.00 per reservation for permits. The $8.00 and $6.00 reservation fees for cabins, lookouts, and permits are transaction fees charged by the recreation.gov reservation platform and is not a Forest Service recreation fee under the Federal Lands Recreation Enhancement Act. These transaction fees are retained by the service provider to support the cost of the reservation system.

Lisa Northrop,
Associate Deputy Chief State, Private and Tribal Forestry, National Forest System.

[FR Doc. 2025-15803 Filed 8-18-25; 8:45 am]

BILLING CODE 3411-15-P